DEPARTMENT OF HOMELAND SECURITY

Coast Guard

33 CFR Part 100

[Docket No. USCG-2010-1024]

RIN 1625-AA08

Special Local Regulation; Olympia Harbor Days Tug Boat Races, Budd Inlet, WA

AGENCY: Coast Guard, DHS.

ACTION: Final rule.

SUMMARY: The Coast Guard is establishing a special local regulation to enable vessel movement restrictions within the navigation channel and an area extending north of the channel in Budd Inlet, WA during the annual Olympia Harbor Days tug boat races. This action is necessary to restrict vessel movement within the specified race area immediately prior to, during, and immediately after racing activity in order to ensure the safety of participants, spectators and the maritime public. Entry into, transit through, mooring or anchoring within the specified race area is prohibited unless authorized by the Captain of the Port, Puget Sound or Designated Representatives.

DATES: This rule is effective June 27, 2011. For 2011, this regulation will be enforced on September 4, 2011 from 12 noon to 8 p.m.

ADDRESSES: Comments and material received from the public, as well as documents mentioned in this preamble as being available in the docket, are part of docket USCG-2010-1024 and are available online by going to http://www.regulations.gov, inserting USCG-2010-1024 in the “Keyword” box, and then clicking “Search.” This material is also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail LTJG Ian S. Hanna, Sector Puget Sound, Waterways Management Division, Coast Guard; telephone 206-217-6175, e-mail SectorPugetSoundWWM@uscg.mil. If you have questions on viewing the docket, call Renee V. Wright, Program Manager, Docket Operations, telephone 202-366-9826.

SUPPLEMENTARY INFORMATION:

Regulatory Information

On Monday, January 10, 2011, we published a notice of proposed rulemaking (NPRM) entitled Special Local Regulation; Olympia Harbor Days Tug Boat Races, Budd Inlet, WA in the Federal Register (76 FR 006). We did not receive any comments on the proposed rule. We did not receive any requests for a public meeting and a public meeting was not held.

Basis and Purpose

The Coast Guard is establishing a special local regulation to enable vessel movement restrictions within the navigation channel and an area extending north of the channel in Budd Inlet, WA during the annual Olympia Harbor Days tug boat races. Tug boat races typically result in vessel and spectator congestion in the proximity of the race course. The draft of these vessels creates a large wake when accelerating at fast speeds such as during races. Vessel movement restrictions are necessary to ensure spectators remain an adequate distance from the specified race area thereby providing unencumbered access for emergency response craft in the event of a race-related emergency. This rule establishes a specified race area and ensures the safety of this marine event by prohibiting persons and vessel operators from entering, transiting or remaining within the designated race zone during times of enforcement.

Background

Olympia Harbor Days is an annual tug boat race in Budd Inlet, WA involving different classes of tug boat races. Each class of vessel will compete in a heat which will take place within the navigation channel. This rule creates a special local regulation to restrict vessel movement within the race area to include the navigational channel and an area extending north of the channel in Budd Inlet, WA during each heat of racing. The event sponsor and event sponsor patrol craft located at the extremities of this race area will delineate the boundaries of the specified race area. The event sponsor will assist the COTP in informing the maritime public of vessel movement restrictions in the specified race area during this annual event.

Discussion of Comments and Changes

The notice of proposed rulemaking for this rule did not receive any comments. Paragraph (d) was changed slightly to clarify the nature of the restriction; that the regulated area is only enforced at times announced in the Federal Register by the Captain of the Port.

Initial Enforcement

The Coast Guard will enforce the special local regulation in 33 CFR 100.1309 from 12 noon to 8 p.m. on September 4, 2011.

Regulatory Analyses

We developed this rule after considering numerous statutes and executive orders related to rulemaking. Below we summarize our analyses based on 13 of these statutes or executive orders.

Regulatory Planning and Review

This rule is not a significant regulatory action under section 3(f) of Executive Order 12866, Regulatory Planning and Review, as supplemented by Executive Order 13563, Improving Regulation and Regulatory Review, and does not require an assessment of potential costs and benefits under section 6(a)(3) of that Executive Order 12866 or under section 1 of Executive Order 13563. The Office of Management and Budget has not reviewed it under those Orders. This rule is not a significant regulatory action because it is located in an isolated area, short in duration and vessels will be able to transit the navigation channel between heats of racing.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities.

This rule will affect the following entities, some of which may be small entities: The owners or operators of vessels intending to transit this zone during periods of enforcement. This rule will not have a significant economic impact on a substantial number of small entities for the following reasons. This rule will be enforced for a short duration and vessels will be able to navigate the channel between heats with the permission of the on-scene patrol commander (the event sponsor).

Assistance for Small Entities

Under section 213(a) of the Small Business Regulatory Enforcement Fairness Act of 1996 (Pub. L. 104-121), in the NPRM we offered to assist small entities in understanding the rule so that they could better evaluate its effects on them and participate in the rulemaking process.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

Taking of Private Property

This rule will not cause a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Department of Homeland Security Management Directive 023-01 and Commandant Instruction M16475.lD, which guide the Coast Guard in complying with the National Environmental Policy Act of 1969 (NEPA) (42 U.S.C. 4321-4370f), and have concluded this action is one of a category of actions that do not individually or cumulatively have a significant effect on the human environment. This rule is categorically excluded, under figure 2-1, paragraph (34)(g.) of the Instruction. This rule involves tug boat racing by various classes of tugboats in Budd Inlet, WA. An environmental analysis checklist and a categorical exclusion determination are available in the docket where indicated under ADDRESSES.

List of Subjects in 33 CFR Part 100

Marine safety, Navigation (water), Reporting and recordkeeping requirements, Waterways.

For the reasons discussed in the preamble, the Coast Guard amends 33 CFR part 100 as follows:

PART 100—SAFETY OF LIFE ON NAVIGABLE WATERS

1. The authority citation for part 100 continues to read as follows:

Authority: 33 U.S.C. 1233.

2. Add § 100.1309 to read as follows:

§ 100.1309 Special Local Regulation; Olympia Harbor Days Tug Boat Races, Budd Inlet, WA.

(a) Regulated area. The following area is specified as a race area: All waters of Budd Inlet, WA the width of the navigation channel south of a line connecting the following points: 47°05.530′ N, 122°55.844′ W and 47°05.528′ N, 122°55.680′ W until reaching the northernmost end of the navigation channel at a line connecting the following points: 47°05.108′ N, 122°55.799′ W and 47°05.131′ N, 122°55.659′ W then southeasterly until reaching the southernmost entrance of the navigation channel at a line connecting the following points: 47°03.946′ N, 122°54.577′ W, 47°04.004′ N, 122°54.471′ W.

(b) Regulations. In accordance with the general regulations in 33 CFR part 100, the regulated area shall be closed immediately prior to, during and immediately after the event to all persons and vessels not participating in the event and authorized by the event sponsor.

(c) Authorization. All persons or vessels who desire to enter the designated race area created in this section while it is enforced must obtain permission from the on-scene patrol craft on VHF Ch 13.

(d) Notice of enforcement dates. This Special Local Regulation will only be enforced during times announced by the Captain of the Port. The Captain of the Port will provide notice of the enforcement of this special local regulation by Notice of Enforcement in the Federal Register. Additional information may be available through Broadcast Notice to Mariners and Local Notice to Mariners.

Dated: May 11, 2011.
G.T. Blore,
Rear Admiral, U.S. Coast Guard Commander, Thirteenth Coast Guard District.

[FR Doc. 2011-13172 Filed 5-26-11; 8:45 am]

BILLING CODE 9110-04-P